DEPARTMENT OF HEALTH AND HUMAN SERVICES

Centers for Disease Control and Prevention

Disease, Disability, and Injury Prevention and Control Special Emphasis Panel (SEP)—CE24-011, Grants To Support New Investigators in Conducting Research Related To Understanding Drug Use and Overdose Risk and Protective Factors (K01); Cancellation of Meeting

AGENCY: Centers for Disease Control and Prevention, Department of Health and Human Services.

ACTION: Notice.

FOR FURTHER INFORMATION CONTACT: Aisha L. Wilkes, M.P.H., Scientific Review Officer, National Center for Injury Prevention and Control, Centers for Disease Control and Prevention, 4770 Buford Highway NE, Mailstop S106-9, Atlanta, Georgia 30341-3717. Telephone: (404) 639-6473; Email: AWilkes@cdc.gov.

SUPPLEMENTARY INFORMATION: Notice is hereby given of a change in the meeting of the Disease, Disability, and Injury Prevention and Control Special Emphasis Panel (SEP)—CE24-011, Grants to Support New Investigators in Conducting Research Related to Understanding Drug Use and Overdose Risk and Protective Factors (K01); Cancellation of Meeting; March 5, 2024, 8:30 a.m.-5 p.m., EST., in the original Federal Register notice FRN. The web conference was published in the Federal Register on Tuesday, October 24, 2023, 88 FR 73020.

This meeting is being canceled in its entirety.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-02208 Filed 2-2-24; 8:45 am]

BILLING CODE 4163-18-P